DEPARTMENT OF THE INTERIOR

Bureau of Land Management

[OR-110-; HAG04-0131]

Notice of Medford District Resource Advisory Committee Meetings; OR110 5882 HD

AGENCY: Bureau of Land Management, Interior.

ACTION: Notice of Meetings.

SUMMARY: The Medford District Resource Advisory Committee will meet in Medford to tour project sites and to discuss proposed 2005 projects. Agenda topics include on-site inspections of 2004 projects and proposed 2005 projects, review of last meeting minutes, presentations on proposed fiscal year 2005 Title II projects, and discussion regarding proposed projects.

DATES:

1. July 15, 2004, 7 a.m. to 4 p.m.

2. July 29, 2004, 7 a.m. to 4 p.m.

3. August 12, 2004, 10 a.m. to 4 p.m.

4. August 19, 2004, 10 a.m. to 4 p.m.

ADDRESSES: The field trips will start from, and the meetings will be held at, the Medford District Office, located at 3040 Biddle Road, Medford, Oregon.

FOR FURTHER INFORMATION CONTACT: Karen Gillespie, Medford District Office (541) 618-2424.

SUPPLEMENTARY INFORMATION: The field trips on July 15, 2004 and July 29, 2004 will begin at 7 a.m. The meetings on August 12, 2004 and August 19, 2004 will begin at 10 a.m.

A public comment period will be held from 2 to 2:30 p.m. on August 12, 2004 and August 19, 2004.

The field trips and meetings are expected to adjourn at 4 p.m.

(Authority: 43 CFR Subpart 1784/Advisory Committees)
Lance E. Nimmo,
Acting Medford District Manager.

[FR Doc. 04-7130 Filed 3-30-04; 8:45 am]

BILLING CODE 4310-33-P